ENVIRONMENTAL PROTECTION AGENCY

40 CFR Part 52

[EPA-R07-OAR-2008-0241; FRL-8552-9]

Approval and Promulgation of Implementation Plans; State of Iowa

AGENCY: Environmental Protection Agency (EPA).

ACTION: Proposed rule.

SUMMARY: EPA is proposing to approve a revision to the Iowa State Implementation Plan submitted on January 16, 2008. The revision includes changes to the definition of “permitting authority” in each of Iowa's rules used for compliance with EPA's Clean Air Interstate Rule. Iowa's SIP revision is in response to EPA's request of Iowa to revise the definitions to ensure that all allowances issued in the EPA Budget Trading Programs can be traded and used for compliance with the allowance-holding requirement in any State in the program.

DATES: Comments on this proposed action must be received in writing by May 15, 2008.

ADDRESSES: Submit your comments, identified by Docket ID No. EPA-R07-OAR-2008-0241, by mail to Michael Jay, Environmental Protection Agency, Air Planning and Development Branch, 901 North 5th Street, Kansas City, Kansas 66101. Comments may also be submitted electronically or through hand delivery/courier by following the detailed instructions in the ADDRESSES section of the direct final rule located in the rules section of this Federal Register.

FOR FURTHER INFORMATION CONTACT: Michael Jay at (913) 551-7460, or by e-mail at jay.michael@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: April 3, 2008.
William Rice,
Acting Regional Administrator, Region 7.

[FR Doc. E8-7782 Filed 4-14-08; 8:45 am]

BILLING CODE 6560-50-P